OFFICE OF MANAGEMENT AND BUDGET

Proposed Bulletin for Good Guidance Practices

AGENCY: Office of Management and Budget.

ACTION: Notice of proposed guidelines and request for comments.

SUMMARY: The Office of Management and Budget (OMB) is extending the comment period regarding its draft Bulletin for Good Guidance Practices from December 23, 2005, to January 9, 2006. This Bulletin is intended to increase the quality and transparency of agency guidance practices and the guidance documents produced through them.

DATES: Written comments regarding OMB's Proposed Bulletin for Good Guidance Practices are due by January 9, 2006.

ADDRESSES: Due to potential delays in OMB's receipt and processing of mail, respondents are strongly encouraged to submit comments electronically to ensure timely receipt. We cannot guarantee that comments mailed will be received before the comment closing date. Electronic comments may be submitted to: OMB_GGP@omb.eop.gov. Please put the full body of your comments in the text of the electronic message and as an attachment. Please include your name, title, organization, postal address, telephone number, and e-mail address in the text of the message. Comments also may be submitted via facsimile to (202) 395-7245.

FOR FURTHER INFORMATION CONTACT: Lisa Jones, Office of Information and Regulatory Affairs, Office of Management and Budget, 725 17th Street, NW., New Executive Office Building, Room 10201, Washington, DC, 20503. Telephone (202) 395-5897.

SUPPLEMENTARY INFORMATION: OMB is seeking comments on its Proposed Bulletin for Good Guidance Practices by January 9, 2006. The draft Bulletin for Good Guidance Practices is posted on OMB's Web site, http://www.whitehouse.gov/omb/inforeg/regpol.html. This draft Bulletin provides a definition of guidance; describes the legal effect of guidance documents; establishes practices for developing guidance documents and receiving public input; and establishes ways for making guidance documents available to the public.

Dated: December 19, 2005.
Donald R. Arbuckle,
Deputy Administrator, Office of Information and Regulatory Affairs.

[FR Doc. 05-24417 Filed 12-22-05; 8:45 am]

BILLING CODE 3110-01-P